DEPARTMENT OF ENERGY

Federal Energy Regulatory Commission

Combined Notice of Filings #1

Take notice that the Commission received the following electric corporate filings:

Docket Numbers: EC14-42-000.

Applicants: Fowler Ridge IV Wind Farm LLC.

Description: Application for Authorization under Section 203 of the Federal Power Act and Request for Waivers and Expedited Action of Fowler Ridge IV Wind Farm LLC.

Filed Date: 1/15/14.

Accession Number: 20140115-5108.

Comments Due: 5 p.m. ET 2/5/14.

Take notice that the Commission received the following electric rate filings:

Docket Numbers: ER10-2848-002; ER11-1939-004; ER11-2754-004; ER12-999-002; ER12-1002-002; ER12-1005-002; ER12-1006-002; ER12-1007-003.

Applicants: AP Holdings, LLC, AP Gas & Electric (IL), LLC, AP Gas & Electric (PA), LLC, AP Gas & Electric (TX), LLC, AP Gas & Electric (MD), LLC, AP Gas & Electric (NJ), LLC, AP Gas & Electric (OH), LLC, AP Gas & Electric (NY), LLC.

Description: Second Supplement to June 28, 2013 Updated Market Power Analysis for the Southwest Region of AP Holdings Subsidiaries.

Filed Date: 1/14/14.

Accession Number: 20140114-5171.

Comments Due: 5 p.m. ET 2/4/14.

Docket Numbers: ER13-83-004.

Applicants: Duke Energy Carolinas, LLC, Duke Energy Progress, Inc.

Description: Duke Energy Carolinas, LLC, et al. submits Order No. 1000 Regional Compliance Filing Under Protest.

Filed Date: 1/14/14.

Accession Number: 20140114-5174.

Comments Due: 5 p.m. ET 2/13/14.

Docket Numbers: ER13-908-002.

Applicants: Alabama Power Company.

Description: Alabama Power Company submits Order No. 1000 Second Regional Compliance Filing-FILING SUBMITTED UNDER PROTEST to be effective 6/1/2014.

Filed Date: 1/14/14.

Accession Number: 20140114-5121.

Comments Due: 5 p.m. ET 2/13/14.

Docket Numbers: ER13-913-002.

Applicants: Ohio Valley Electric Corporation.

Description: Ohio Valley Electric Corporation submits Order No. 1000 Regional Compliance Filing to be effective 6/1/2014.

Filed Date: 1/14/14.

Accession Number: 20140114-5118.

Comments Due: 5 p.m. ET 2/13/14.

Docket Numbers: ER14-81-001.

Applicants: Pacific Gas and Electric Company.

Description: Balancing Account Revisions 2014 Deficiency Filing to be effective 3/1/2014.

Filed Date: 1/15/14.

Accession Number: 20140115-5000.

Comments Due: 5 p.m. ET 2/5/14.

Docket Numbers: ER14-689-002.

Applicants: Midcontinent Independent System Operator, Inc.

Description: Midcontinent Independent System Operator, Inc. submits 2014-01-13 Entergy IA Succession Withdrawal Amendment to be effective 12/19/2013.

Filed Date: 1/15/14.

Accession Number: 20140115-5106.

Comments Due: 5 p.m. ET 2/5/14.

Docket Numbers: ER14-998-000.

Applicants: Richland-Stryker Generation LLC.

Description: Normal to be effective 1/16/2014.

Filed Date: 1/15/14.

Accession Number: 20140115-5034.

Comments Due: 5 p.m. ET 2/5/14.

Docket Numbers: ER14-999-000.

Applicants: Entergy Services, Inc.

Description: Entergy Services, Inc., Compliance Filing to be effective 1/16/2014.

Filed Date: 1/15/14.

Accession Number: 20140115-5054.

Comments Due: 5 p.m. ET 2/5/14.

Docket Numbers: ER14-1000-000.

Applicants: Southern California Edison Company.

Description: GIA & Distr Serv Agmt for Portal Ridge Solar Project Related to EKWRA Project to be effective 12/15/2013.

Filed Date: 1/15/14.

Accession Number: 20140115-5068.

Comments Due: 5 p.m. ET 2/5/14.

Docket Numbers: ER14-1001-000.

Applicants: Southern California Edison Company.

Description: LGIA and Distrib Service Agmt with Coram California Development, L.P. to be effective 12/15/2013.

Filed Date: 1/15/14.

Accession Number: 20140115-5071.

Comments Due: 5 p.m. ET 2/5/14.

Docket Numbers: ER14-1002-000.

Applicants: Southwest Power Pool, Inc.

Description: Southwest Power Pool, Inc. submits Bylaws Revisions—Affiliate Voting Rules and NEL Definition to be effective 3/16/2014.

Filed Date: 1/15/14.

Accession Number: 20140115-5117.

Comments Due: 5 p.m. ET 2/5/14.

Take notice that the Commission received the following land acquisition reports:

Docket Numbers: LA13-4-000.

Applicants: Bishop Hill Energy II LLC, Cordova Energy Company LLC, MidAmerican Energy Company, Saranac Power Partners, L.P.

Description: Quarterly Land Acquisition Report of the MidAmerican Parties.

Filed Date: 1/14/14.

Accession Number: 20140114-5176.

Comments Due: 5 p.m. ET 2/4/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2014.
Nathaniel J. Davis, Sr.,
Deputy Secretary.

[FR Doc. 2014-01495 Filed 1-27-14; 8:45 am]

BILLING CODE 6717-01-P